DEPARTMENT OF AGRICULTURE

Animal and Plant Health Inspection Service

[Docket No. 01-046-1]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of international standard-setting activities of the Office International des Epizooties, the Secretariat of the International Plant Protection Convention, and the North American Plant Protection Organization, and we are soliciting public comment on the standards to be considered.

ADDRESSES: Please send four copies of your comments (an original and three copies) to: Docket No. 01-046-1, Regulatory Analysis and Development, PPD, APHIS, Suite 3C03, 4700 River Road Unit 118, Riverdale, MD 20737-1238.

Please state that your comment refers to Docket No. 01-046-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For general information on the topics covered in this notice, contact Mr. John Greifer, Director, Trade Support Team, International Services, APHIS, room 1132, South Building, 14th Street and Independence Avenue SW., Washington, DC 20250; (202) 720-7677. For specific information regarding standard-setting activities of the Office International des Epizooties, contact Dr. Michael David, Chief, Sanitary International Standards Team, VS, APHIS, 4700 River Road Unit 33, Riverdale, MD 20737-1231; (301) 734-8093. For specific information regarding the standard-setting activities of the International Plant Protection Convention or the North American Plant Protection Organization, contact Mr. Narcy Klag, Program Manager, Phytosanitary Issues Management, PPQ, APHIS, 4700 River Road Unit 60, Riverdale, MD 20737-1236; (301) 734-8469.

SUPPLEMENTARY INFORMATION: The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended title IV of the Trade Agreements Act of 1979 (19 U.S.C. 2531 et seq.). Section 491 of the Trade Agreement Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the Office International des Epizooties (OIE) regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. This responsibility was delegated to the United States Department of Agriculture's (USDA's) Food Safety and Inspection Service (FSIS) for Codex activities and Animal and Plant Health Inspection Service (APHIS) for OIE, IPPC, and NAPPO activities.

FSIS is responsible for publishing an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing notice of OIE, IPPC, and NAPPO activities related to international standards and for representing the United States with respect to these standards.

Following are descriptions of the OIE, IPPC, and NAPPO organizations and the standard-setting agenda for each of these institutions. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 157 member nations, each of which is represented by a delegate who, in most cases, is the chief veterinary officer of that country. The WTO has recognized the OIE as the international forum for setting animal health standards, reporting global animal situations and disease status, and presenting guidelines and recommendations on sanitary measures relating to animal health.

The OIE facilitates intergovernmental cooperation to prevent the spread of contagious diseases in animals by sharing scientific research among its members. The major functions of the OIE are to collect and disseminate information on the distribution and occurrence of animal diseases and to ensure that scientifically justified standards govern international trade in animals and animal products. The OIE aims to achieve this through the development and revision of international standards for diagnostic tests, vaccines, and the safe international trade of animals and animal products.

The OIE provides annual reports on the global distribution of animal diseases, recognizes the free status of member countries for certain diseases, categorizes animal diseases with respect to their international significance, publishes bulletins on global disease status, and provides animal disease control guidelines to member countries.

The various OIE commissions and working groups undertake the initial analysis and preparation of draft standards, which are then circulated to member countries for consultation (review and comment). Draft standards are revised accordingly and then presented to the OIE General Session, which meets annually every May, for review and adoption. Adoption, as a general rule, is based on consensus of the OIE membership.

The next OIE General Session is scheduled for the third or fourth week of May 2002 in Paris, France. The Deputy Administrator for APHIS' Veterinary Services is the official U.S. delegate to the OIE. The Deputy Administrator intends to participate in the proceedings and will discuss or comment on APHIS' position on any standard up for adoption.

OIE Code Chapters Up for Adoption

Revisions to the following chapters of the OIE International Animal Health Code are expected to be presented for adoption at the next General Session in May 2002:

1. Scrapie: This is a disease of sheep and goats. This will constitute a new chapter in the OIE Code. It will provide guidance for safe trade in sheep and goats, including their products, with respect to scrapie. The United States intends to support adoption of this new Code chapter assuming it is ready for such consideration and is consistent with our scientific knowledge of this disease.

2. Classical swine fever (CSF): This is a disease of hogs. This is not a new chapter in the OIE Code. This chapter is being updated in order to incorporate contemporary scientific knowledge about this disease (e.g., new knowledge regarding surveillance for CSF, testing, etc.). These changes may affect current OIE export certification standards for products affected with CSF. The United States intends to support this revised Code chapter assuming it is ready for such consideration and is consistent with our scientific knowledge of this disease.

3. Newcastle disease: This a poultry disease. This is not a new OIE Code chapter. Changes are being made to this chapter to reflect contemporary scientific knowledge about Newcastle disease (e.g., new knowledge regarding surveillance for the disease, testing, etc.). These changes may affect current OIE export certification standards for products affected with Newcastle disease. The United States intends to support adoption of this revised Code chapter assuming it is ready for such consideration and is consistent with our scientific knowledge of this disease.

4. Diseases of bees: This represents a revision to or updating of an existing OIE Code chapter. This chapter, which addresses most diseases of honeybees, including mites, will be revised to incorporate changes in scientific knowledge about various honeybee diseases. This chapter will continue to provide guidance for certifying honeybee packages and queen bees for export purposes. The United States intends to support adoption of this revised chapter assuming it is ready for such consideration and is consistent with our scientific knowledge of this disease.

5. Infectious Bursal Disease (IBD): This is a disease of poultry. This existing chapter will be revised to incorporate contemporary scientific knowledge about IBD (e.g., new knowledge regarding surveillance for the disease, testing, etc.). These changes may affect current OIE export certification standards for products that may be affected with IBD. The United States intends to support adoption of this revised Code chapter assuming it is ready for such consideration and is consistent with our scientific knowledge of this disease.

As a matter of process, these chapters are drafted (or revised) by ad hoc groups composed of technical experts nominated by the OIE Code Commission by virtue of their subject-area expertise (not their national affiliation). Once the ad hoc expert group completes its task of drafting a new chapter or revising an existing one, it is then distributed to member countries for review and comment. Typically, the OIE distributes the proposed or revised Code chapters to its member countries by late October of each year. The draft standard is revised by the Code Commission on the basis of relevant scientific comments received from member countries.

The United States (i.e., USDA/APHIS) intends to review and comment on all draft chapter revisions once it receives them from the OIE, most likely in late October or early November 2001. USDA/APHIS intends to distribute these drafts to the U.S. livestock industry, veterinary experts in various U.S. academic institutions, and other interested persons for review and comment. These drafts are also posted on a website maintained by the U.S. Animal Health Association (USAHA). Hence, U.S. comments submitted to the OIE will be based on APHIS' analysis and relevant scientific information received from various domestic commenters. Additional information regarding these draft standards may be obtained by contacting Dr. Michael David (see FOR FURTHER INFORMATION CONTACT above).

Generally, if a country has concerns with a particular draft standard, and supports those concerns with sound technical information, the Commission will revise that standard accordingly and present the revised draft for adoption at the General Session in May. In the event that a country's concerns regarding a draft standard are not taken into account, that country may refuse to support the standard when it comes up for adoption at the General Session. However, each member country is obligated to review, comment, and make decisions regarding the adoption of standards strictly on their scientific merits.

OIE Future Work Program

In the next few years, the Code Commission is expected to establish ad hoc groups of experts to update and/or develop the standards for the following diseases:

1. Transmissible spongiform encephalopathy in small ruminants: This would be a new OIE Code chapter intended to provide guidance for export certification of sheep and goats and their products. The United States will consider its position on this new standard after it reviews a prepared draft.

2. Bovine tuberculosis: This would represent a revision of an existing OIE Code chapter. Changes to this chapter are being considered due to new scientific information about this disease. Changes to this chapter could result in changes in the current export certification standards for cattle. The United States intends to support adoption of this new Code chapter assuming it is ready for such consideration and is consistent with our scientific knowledge of this disease. The United States will consider its position on this revised standard after it reviews a prepared draft.

3. Paratuberculosis: This would represent a revision of an existing OIE Code chapter. Changes to this chapter are being considered due to new scientific information about this disease, primarily as it affects cattle and sheep. The United States will consider its position on this revised Code chapter after it reviews a prepared draft.

4. Chronic wasting disease: This is a disease of wildlife and farm-raised animals, primarily deer and elk. This would be new OIE Code chapter that would provide guidance for trade in deer and elk and their products.

The United States will consider its position on this new standard after it reviews a prepared draft.

In addition, the Code Commission anticipates establishing guidelines for the following issues:

1. Guidelines on the judgment of equivalence: This represents a new undertaking for OIE and is intended to provide guidance on making equivalency determinations in the area of animal health. The United States will consider its position on this issue once it reviews a prepared draft.

2. Notification of animal diseases: Work in this area is intended to provide improved guidance on procedures to follow for reporting animal disease outbreaks and occurrences among OIE members. The United States will consider its position on this matter after it reviews a prepared draft.

3. Code appendices on embryos: Work in this area is intended to ensure that all OIE Code chapters that address different animal diseases include adequate guidance on export certification for trade in embryos with respect to that particular disease. The United States will consider its position on this matter after it reviews a prepared draft.

Other OIE Topics

Every year at the General Session, two technical items are presented. At the May 2001 General Session, the following technical items were presented:

1. The importance of emerging diseases in public and animal health and trade. An expert in this area, including new zoonotic diseases, provided a summary report on this topic. This report is expected to be included in the report of the OIE's 2001 General Session.

2. The role of communication management in supporting veterinary services. An expert on public information provided a summary report on how different OIE member countries address their public information needs with regard to informing the public about their animal health activities. This report will also be published in the report of the OIE's 2001 General Session. The two technical items for the May 2002 General Session have not yet been determined.

The information in this notice includes all the information currently available to us on OIE standards currently under development or consideration. Information on OIE standards is available on the OIE web page at http://www.oie.int. Further, a formal agenda for the next General Session will be available to member countries in February 2002, and copies will be available to the public once the agenda is published. For the most current information on meeting times, working groups, and/or meeting agendas, including information on official U.S. participation in OIE activities, and U.S. positions on standards being considered, contact Dr. Michael David (see FOR FURTHER INFORMATION CONTACT above). Those wishing to provide comments on any areas of work under the OIE may do so at any time by responding to this notice (see ADDRESSES above) or by providing comments through Dr. David.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is placed under the authority of the FAO, and the members of the Secretariat of the IPPC are appointed by the FAO. The IPPC is implemented by national plant protection organizations in cooperation with regional plant protection organizations, the Interim Commission on Phytosanitary Measures (ICPM), and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC will enter into force once two-thirds of the current contracting parties notify the Director General of FAO of their acceptance of the amendment. At this date, 21 of the required 72 member countries have deposited their official letters of acceptance. The U.S. Senate gave its advice and consent to acceptance of the newly revised IPPC on October 18, 2000. The United States is in the process of preparing and submitting to the FAO Director General its official instrument of acceptance.

The IPPC has been, and continues to be, administered at the national level by plant quarantine officials whose primary objective is to safeguard plant resources from injurious pests.

In the United States, the national plant protection organization is APHIS' Plant Protection and Quarantine (PPQ) program. The steps for developing a standard under the revised IPPC are described below.

Step 1: Proposals for a new international standard for phytosanitary measures (ISPM) or for the review or revision of an existing ISPM are submitted to the Secretariat of the IPPC in the form of a discussion paper accompanied by a topic or draft standard. Drafts can be submitted by individual countries, but are more commonly submitted by regional plant protection organizations (RPPO's). Alternately, the Secretariat can propose a new standard or amendments to existing standards.

Step 2: A summary of proposals is submitted by the Secretariat to the ICPM. The ICPM identifies the topics and priorities for standard setting from among the proposals submitted to the Secretariat and others that may be raised by the ICPM.

Step 3: Specifications for the standards identified as priorities by the ICPM are drafted by the Secretariat. The draft specifications are submitted to the Standards Committee for approval/amendment and are subsequently made available to members and RPPO's for comment (60 days). Comments are submitted in writing to the Secretariat. Taking into account the comments, the Standards Committee finalizes the specifications.

Step 4: The standard is drafted or revised in accordance with the specifications by a working group designated by the Standards Committee. The resulting draft standard is submitted to the Standards Committee for review.

Step 5: Draft standards approved by the Standards Committee are distributed to members by the Secretariat and RPPO's for consultation (120 days). Comments are submitted in writing to the Secretariat. Where appropriate, the Standards Committee may establish open-ended discussion groups as forums for further comment. The Secretariat summarizes the comments and submits them to the Standards Committee.

Step 6: Taking into account the comments, the Secretariat, in cooperation with the Standards Committee, revises the draft standard. The Standards Committee submits the final version to the ICPM for adoption.

Step 7: The ISPM is established through formal adoption by the ICPM according to Rule X of the Rules of Procedure of the ICPM.

Step 8: Review of the ISPM is completed by the specified date or such other date as may be agreed upon by the ICPM.

Each member country is represented on the ICPM by a single delegate. Although experts and advisers may accompany the delegate to meetings of the ICPM, only the delegate (or an authorized alternate) may represent each member country in considering a standard up for approval. Parties involved in a vote by the ICPM are to make every effort to reach agreement on all matters by consensus. Only after all efforts to reach a consensus have been exhausted may a decision on a standard be passed by a vote of two-thirds of delegates present and voting.

Technical experts from the United States have participated directly in working groups and indirectly as reviewers of all IPPC draft standards. In addition, documents and positions developed by APHIS and NAPPO have served as the bases for many of the standards adopted to date. This notice describes each of the IPPC standards currently under consideration or up for adoption. The full text of each standard will be available on the APHIS Internet website at http://www.aphis.usda.gov/ppq/standards. Interested individuals may review the standards posted on this website and submit comments via the website.

The next ICPM meeting is scheduled for March 11-13, 2002. The Deputy Administrator for APHIS' PPQ program is the U.S. delegate to the ICPM. The Deputy Administrator intends to participate in the proceedings and will discuss or comment on APHIS' position on any standard up for adoption. The provisional agenda for the meeting is as follows:

Provisional Agenda for the Fourth Interim Commission on Phytosanitary Measures

1. Opening of the session.

2. Adoption of the agenda.

3. Report by the chairperson.

4. Report by the Secretariat.

5. Adoption of international standards (see section below entitled “IPPC Standards Up for Adoption in 2002” for details).

6. Items arising from the Third Session of the ICPM (see section below entitled “New Standard Setting Initiatives” for details).

7. Work program for harmonization.

8. Status of the 1997 revised IPPC.

9. Other business.

10. Date and venue of the next meeting.

11. Adoption of the report.

IPPC Standards Up for Adoption in 2002

It is expected that the following standards will be sufficiently developed to be considered by the ICPM for adoption at its March 2002 meeting. The United States, represented by APHIS' Deputy Administrator for PPQ, will participate in the consideration of these standards. The U.S. position on each of these issues will be developed prior to the ICPM session and will be based on APHIS' analysis, information from other U.S. Government agencies, and relevant scientific information from interested stakeholders. The standards that are most likely to be considered for adoption include:

1. Guidelines for pest listing: The IPPC requires contracting parties to establish and update lists of regulated pests for phytosanitary certification purposes. Guidelines were developed for meeting these obligations at a working group meeting in January 2000. These draft guidelines describe lists of regulated pests, the purpose of the guidelines, and their relationship to phytosanitary certification procedures. The United States intends to support adoption of this draft standard assuming it is ready for such consideration.

2. Guidelines for pest reporting: Under the IPPC, members have an obligation to report pest outbreaks or incidents that may be of potential danger to other members. This standard will provide a common format for such reporting between members. The United States intends to support adoption of this draft standard assuming it is ready for such consideration.

3. General considerations and specific requirements for regulated non-quarantine pests: The 1997 revised IPPC broadened the scope of regulated pests to include “regulated non-quarantine pests.” These are defined as a non-quarantine pests associated with propagative materials and whose presence in such plants affects the intended use of those plants with an economically unacceptable impact and are therefore regulated by the national plant protection organization. This standard describes the concept of regulated non-quarantine pests and identifies their characteristics. It also describes the application of the concept in practice and relevant elements for regulatory systems. This general standard will be followed at a later time by the development of a related standard that will provide guidance for conducting pest risk analyses specific to regulated non-quarantine pests (see item 7 under “New Standard-Setting Initiatives”). The United States intends to support adoption of this draft standard assuming it is ready for such consideration.

4. Systems approaches for risk management: Given the eventual loss of methyl bromide as a quarantine tool, many countries are relying increasingly on new approaches for reducing pest risks and meeting foreign import requirements. Systems approaches, or the use of multiple pest risk mitigation measures, have emerged as an increasingly popular way to certify commodities for export. This standard is intended to harmonize the approach used by countries in establishing systems approaches for export purposes. The United States intends to support adoption of this draft standard assuming it is ready for such consideration.

At this time, it appears likely that only the above standards will be presented for adoption at the next ICPM meeting in April 2002. The United States intends to support adoption of these standards at the April 2002 ICPM meeting.

New Standard-Setting Initiatives

A number of expert working group meetings or other technical consultations will take place during 2001 and early 2002 on the topics listed below. These standard-setting initiatives are not expected to be completed prior to March 2002 and, therefore, will not be ready for adoption at the 2002 ICPM session. Nonetheless, APHIS intends to participate actively and fully in each of these working groups. The U.S. position on each of the topics to be addressed by these various working groups will be developed prior to these working group meetings and will be based on APHIS' technical analysis, information from other U.S. Government agencies, and relevant scientific information from interested stakeholders.

1. Environmental impact of quarantine pests, including invasive species: The ICPM agreed to establish a technical expert group to further develop an IPPC standard for evaluating the environmental impacts of quarantine pests, including quarantine pests that are invasive. A technical expert group was scheduled to meet on this issue August 6-10, 2001. The first effort to solicit input from the public took place on March 8, 2001, when APHIS held a public meeting on genetically modified organisms (GMO's) and invasive species. The transcript of this public meeting is available on the Internet at http://www.aphis.usda.gov/ppd/rad/webrepor.html. We plan to publish a second request for comment from the public in the Federal Register in July 2001 before this particular standard is discussed at the August 2001 meeting.

2. Living modified organisms (LMOs): The ICPM agreed on the need to develop a standard to address the plant pest risk of LMOs. The first preparatory step, however, is to develop the specifications for an LMO standard (i.e., elements and parameters to guide the development of a particular standard). An open-ended expert working group will meet in September 2001. This expert working group is charged to develop a detailed standard specification that identifies the plant pest risks associated with LMOs or products of modern biotechnology; identifies elements relevant to the assessment of these plant pest risks; considers existing international regulatory frameworks and guidelines; identifies areas within pest risk assessment (PRA) standards and other ISPM's that are relevant to the phytosanitary aspects of LMOs that are products of modern biotechnology; and identifies the plant pest risks associated with LMOs that are products of modern biotechnology that are not adequately addressed by existing ISPM's. The target date for completion of the LMO standard is 2004. The first effort to solicit input from the public took place on March 8, 2001, when APHIS held a public meeting on GMO's and invasive species. The transcript of this public meeting is available on the Internet at http://www.aphis.usda.gov/ppd/rad/webrepor.html. We plan to publish a second request for comment from the public in July 2001 before this particular standard is discussed at the September 2001 meeting.

3. Strategic planning and technical assistance: A working group on strategic planning and technical assistance will meet in October 2001 to update the ICPM's strategic plan, including its technical assistance program. In particular, the strategic planning group will seek to further develop specific procedures for identifying topics and establishing setting standard-setting priorities; develop a program for the promotion of technical assistance on phytosanitary issues; determine priorities for the IPPC Secretariat's technical assistance activities; and support the development of guidance for countries to use in the evaluation of national regulatory systems.

4. RPPO technical consultation: The establishment of guidelines for the recognition of RPPO's is a function of the ICPM. The task of preparing draft guidelines on this subject was completed during a RPPO technical consultation held in September 2000. During the RPPO consultation scheduled for 2001, procedures that describe how the guidelines are to be implemented will be developed for consideration by the next session of the ICPM.

5. Guidelines on the use of nonmanufactured wood packing materials: This standard will describe phytosanitary measures to reduce the risk of introduction and spread of quarantine pests associated with nonmanufactured wood packing materials used for the transport of commodities in international trade. The Standards Committee will continue work on this draft standard. It is not expected to be completed and ready for ICPM adoption until 2003.

6. Guidelines for surveillance for specific pests—citrus canker: Plant health officials may obtain information on pests of concern in specific sites in an area over a defined period of time through specific surveys. The collected information may be used to determine the presence or distribution of pests in an area, or on a host or commodity, or their absence from an area (in order to establish and maintain pest-free areas). This specific surveillance standard will describe the components of survey and monitoring systems for the purpose of detecting citrus canker and generating the necessary data for use in pest risk analyses, the establishment of pest free areas and, where appropriate, the preparation of pest lists.

7. Pest risk analysis for regulated non-quarantine pests: Certain pests that are not quarantine pests may be subject to phytosanitary regulations and procedures because their presence above a specific level results in economically unacceptable impacts associated with the intended use of the plants. Under the IPPC, such pests are referred to as regulated non-quarantine pests. Under the IPPC, phytosanitary regulations and procedures covering regulated non-quarantine pests should be technically justified. The classification of a pest as a regulated non-quarantine pest and any restrictions placed on the importion of the plant species with which it is associated must be justified by pest risk analysis. This standard will provide guidance for conducting an appropriate pest risk assessment necessary to demonstrate that importation of a particular plant for propagation is a pathway that may result in an economically unacceptable impact and to guide subsequent risk management decisions.

8. Irradiation as a quarantine treatment: This initiative will consider the development of standardized guidance for evaluating, adopting, and applying irradiation as a phytosanitary treatment. The objective is to promote consistency by providing harmonized guidelines concerning the technical and operational aspects of employing irradiation as a treatment for plant pests. The International Atomic Energy Agency (IAEA) based in Vienna, Austria, has offered both technical and financial support for the development of an irradiation standard.

For more detailed information on the above topics, which will be addressed by various working groups established by the ICPM, contact Mr. Narcy Klag (see FOR FURTHER INFORMATION CONTACT above).

Also, APHIS posts draft standards on its website (http://www.aphis.usda.gov/ppq/standards) as they become available to us. The website also provides information on when comments on standards are due. Additional information on IPPC standards is available on the FAO's website at http://www.ippc.int. For the most current information on official U.S. participation in IPPC activities, including U.S. positions on standards being considered, contact Mr. Narcy Klag (see FOR FURTHER INFORMATION CONTACT above). Those wishing to provide comments on any of the areas of work being undertaken by the IPPC may do so at any time by responding to this notice (see ADDRESSES above) or by providing comments through Mr. Klag.

NAPPO Standard-Setting Activities

NAPPO, a regional plant protection organization created in 1976 under the IPPC, coordinates the efforts among Canada, the United States, and Mexico to protect their plant resources from the entry, establishment, and spread of harmful plant pests, while facilitating intra- and inter-regional trade.

NAPPO conducts its business through panels and annual meetings held among the three member countries. The NAPPO Executive Committee charges individual panels with the responsibility for drawing up proposals for NAPPO positions, policies, and standards. These panels are made up of representatives from each member country who have scientific expertise related to the policy or standard being considered.

Proposals drawn up by the individual panels are circulated for review to government and industry officials in Canada, Mexico, and the United States, who may suggest revisions. In the United States, draft standards are circulated to industry, States, and various government agencies for consideration and comment. The draft standards are posted on the Internet at http://www.aphis.usda.gov/ppq/standards. Interested persons may submit comments via this website. Once revisions are made, the proposal is sent to the NAPPO working group and the NAPPO standards panel for technical reviews and then to the Executive Committee for final approval, which is granted by consensus.

The annual NAPPO meeting is scheduled for October 16-18, 2001, in Banff, Alberta, Canada. The Executive Committee meeting will take place on October 14, 2001, and a special session will be held on October 15, 2001, where industry groups can bring issues to the attention of the Executive Committee. The Deputy Administrator for APHIS' PPQ program is the U.S. member of the Executive Committee. The Deputy Administrator intends to participate in the proceedings and will discuss or comment on APHIS' position on any standard up for adoption in the event that there is no consensus on whether to adopt that standard.

Work Plan for 2001/2002—NAPPO Panel Activities

The work plan for the year was established after the October 2000 Annual Meeting in San Diego, CA. The Deputy Administrator for PPQ participated in establishing this NAPPO work plan (see panel assignments below).

Below is a summary of current panel assignments as they relate to the ongoing development of NAPPO standards. USDA/APHIS intends to participate actively and fully in the work of each of these panels. The U.S. position on each topic will be guided and informed by the best scientific information available on each of these topics. Information regarding the following NAPPO panel topics, assignments, and activities, and updates on meeting times and locations, may be obtained from the NAPPO home page at http://www.nappo.org or by contacting Mr. Narcy Klag (see FOR FURTHER INFORMATION CONTACT above).

Accreditation Panel (Laboratory Accreditation Standard): This NAPPO panel will undertake the following in support of the “Accreditation of Laboratories for Phytosanitary Testing” standard: (1) Develop a process for the evaluation and acceptance of equivalent diagnostic tests used by NAPPO countries; and (2) collaborate with other NAPPO panels as required regarding the ongoing maintenance of the inventory of NAPPO-approved diagnostic tests. The United States will consider its position on this standard after it reviews a prepared draft.

Accreditation Panel (Inspector Accreditation): This NAPPO panel will work towards implementing the conditions of the “Accreditation of Individuals to Sign Federal Phytosanitary Certificates” standard. A review of the U.S. system was conducted in June 2001; reviews of other countries' systems will follow. A written report will be given to the Executive Committee at its meeting on October 14, 2001.

Biological Control Panel: This panel will develop a protocol for post-release monitoring to be incorporated as part of the existing standards on biological control (“Guidelines for Petition for Import and Release of Nonnative Entomophagous Agents for the Biological Control of Pests,” and “Guidelines for Petition for Import and Release of Nonnative Phytophagous Agents for the Biological Control of Pests”). The United States will consider its position on this protocol after it reviews a prepared draft.

Biotechnology Panel: This panel will develop a NAPPO standard for the review of products of biotechnology that focuses on the assessment of the potential to present a plant pest risk. It will finalize modules 1, 2, and 3 of the standard regarding the importation of transgenic plants for release into contained facilities, for confined field release, and for unconfined field release, respectively. The panel will begin development of module 4 regarding importation of transgenic material for uses other than planting.

The panel will also collaborate with the NAPPO Pest Risk Analysis Panel to contribute to the development of international standards on the plant pest risks of LMOs/products of modern biotechnology and on the environmental risks associated with plant pests. The United States will consider its position on this standard after it reviews a prepared draft.

Citrus Panel: This panel will continue the development of a NAPPO citrus standard entitled, “Guidelines for the Importation into and Movement of Citrus Propagative Material within NAPPO Countries with Respect to Viruses and Virus-like Pests, Viroids, Phytoplasms, Bacteria, and Fungi.” The United States will consider its position on this standard after it reviews a prepared draft.

Forestry Panel: This panel will continue to share information received from consultations on the NAPPO nonmanufactured wood packing material standard, participate in the development of the international standard on nonmanufactured wood packing material, and cooperate with the Insect and Disease Study Group of the North American Forestry Commission to identify quarantine pests and treatment options for nonmanufactured wood packing material and research priorities in support of regional and international standards for nonmanufactured wood packing material. The United States will consider its position on any standard developed by this panel after it reviews a prepared draft.

Fruit Panel: This panel will complete the standard on “Verification and Maintenance of Fruit Fly-Free Areas.” The United States will consider its position on this standard after it reviews a prepared draft.

Fruit Tree Panel: This panel will develop a list of standardized diagnostic tests to be used when certifying fruit tree nursery stock. The United States will consider its position on the list of tests after it reviews a prepared draft.

Grain Panel: This panel will develop a list of standardized diagnostic tests to be used when certifying grain shipments and will complete guidelines for the establishment, verification, and maintenance of free areas for Karnal bunt. The United States will consider its position on the list of tests and the guidelines after it reviews the prepared drafts.

Grapevine Panel: This panel will develop a list of standardized diagnostic tests to be used when certifying grapevine shipments. The United States will consider its position on the list of tests after it reviews a prepared draft.

Pest Risk Analysis Panel: This panel will collaborate with the Potato Panel in the development of a PRA to support implementation of the NAPPO standard on “Requirements for the Importation of Potatoes into a NAPPO Member Country.” Also, it will collaborate with the NAPPO Biotechnology Panel to contribute to the development of international standards on the plant pest risks of LMOs/products of modern biotechnology and on the environmental risks associated with plant pests. The United States will consider its position on this standard after it reviews a prepared draft.

Potato Panel: This panel will develop a standard that provides detailed criteria that would define appropriate conditions for minituber production and list the standardized diagnostic tests to be used when certifying potato shipments. The United States will consider its position on this standard after it reviews a prepared draft.

Seeds Panel: This panel will prepare a proposal to the IPPC to endorse the seed-testing methods of the International Seed Testing Association, as well as develop a list of standardized diagnostic tests to be used when certifying seed shipments. The United States will consider its position on the proposal and the list of tests after it reviews the prepared drafts.

Standards Panel: This panel is responsible for providing updates on standards in the NAPPO newsletter; coordinating the review of new and amended NAPPO standards and ensuring that comments received during the country consultation phase are incorporated as appropriate; organizing conference calls and preparing NAPPO discussion documents for possible use at the IPPC; promoting implementation of finalized NAPPO guidelines and standards; and developing a NAPPO process for implementing the recently adopted IPPC standard for the “Notification of Interceptions and Non-Compliance” within the NAPPO region.

The PPQ Deputy Administrator, as the official U.S. delegate to NAPPO, intends to participate in the adoption of those regional plant health standards, including the work described above, once they are completed and ready for such consideration.

The information in this notice includes all the information available to us on NAPPO standards currently under development or consideration. For updates on meeting times and for information on the working panels that becomes available following publication of this notice, check the NAPPO web page at http://www.nappo.org or contact Mr. Narcy Klag (see FOR FURTHER INFORMATION CONTACT above). Information on official U.S. participation in NAPPO activities, including U.S. positions on standards being considered, may also be obtained from Mr. Klag.

Those wishing to provide comments on any of the topics being addressed by any of the NAPPO panels may do so at any time by responding to this notice (see ADDRESSES above) or by transmitting comments through Mr. Klag.

Done in Washington, DC, this 9th day of August 2001.
Craig A. Reed,
Administrator, Animal and Plant Health Inspection Service.

[FR Doc. 01-20692 Filed 8-16-01; 8:45 am]

BILLING CODE 3410-34-U